DEPARTMENT OF VETERANS AFFAIRS

[OMB Control No. 2900-0719]

Proposed Information Collection (Prevalence and Clinical course of Depression Among patients with Heart Failure); Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to identify the patterns of depression in heart failure patients.

DATES: Written comments and recommendations on the proposed collection of information should be received on or before December 12, 2011.

ADDRESSES: Submit written comments on the collection of information through the Federal Docket Management System (FDMS) at http://www.Regulations.gov; or to Cynthia Harvey Pryor, Veterans Health Administration (10P7BFP), Department of Veterans Affairs, 810 Vermont Avenue, NW., Washington, DC 20420 or e-mail: cynthia.harvey-pryor@va.gov. Please refer to “2900-0719” in any correspondence. During the comment period, comments may be viewed online through FDMS.

FOR FURTHER INFORMATION CONTACT: Cynthia Harvey-Pryor (202) 461-5870 or fax (202) 273-9387.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Prevalence and Clinical Course of Depression Among Patients with Heart Failure, VA HSR&D, Nursing Research Initiative No. 05-209-3, VA Form 10-21085a-e(NR).

OMB Control Number: 2900-2900-0719.

Type of Review: Extension of a currently approved collection.

Abstract: The data collected will be used to evaluate the prevalence of clinical depression and depressive symptoms among Veterans with heart failure during periods of hospitalization and outpatient care, and to understand the temporal relationship between clinical depression, alterations in physical functioning, and the levels of circulating biochemical markers in Veterans heart failure patients.

Affected Public: Individuals or households.

Estimated Annual Burden: 1,362.

a. VA Form 10-21085a(NR)—18 hours.

b. VA Form 10-21085b(NR)—109 hours.

c. VA Form 10-21085c(NR)—872 hours.

d. VA Form 10-21085d(NR)—218 hours.

e. VA Form 10-21085e(NR)—145 hours.

Estimated Average Burden per Respondent:

a. VA Form 10-21085a(NR)—5 minutes.

b. VA Form 10-21085b(NR)—5 minutes.

c. VA Form 10-21085c(NR)—40 minutes.

d. VA Form 10-21085d(NR)—10 minutes.

e. VA Form 10-21085e(NR)—10 minutes.

Frequency of Response: On occasion.

Estimated Number of Respondents: 5,014.

a. VA Form 10-21085a(NR)—218.

b. VA Form 10-21085b(NR)—1,308.

c. VA Form 10-21085c(NR)—1,308.

d. VA Form 10-21085d(NR)—1,308.

e. VA Form 10-21085e(NR)—872.

Dated: October 6, 2011.
By direction of the Secretary.
Denise McLamb,
Program Analyst, Enterprise Records Service.

[FR Doc. 2011-26289 Filed 10-11-11; 8:45 am]

BILLING CODE 8320-01-P